DEPARTMENT OF TRANSPORTATION

Federal Aviation Administration

Aviation Rulemaking Advisory Committee; Transport Airplane and Engine Issue Area—New Task

AGENCY: Federal Aviation Administration (FAA), DOT.

ACTION: Notice of new task assignment for the Aviation Rulemaking Advisory Committee (ARAC).

SUMMARY: The FAA assigned a new task to the Aviation Rulemaking Advisory Committee to develop a recommendation that will help the FAA establish standardized criteria and guidance for conducting airplane-level safety assessments of critical systems. This notice is to inform the public of this ARAC activity.

FOR FURTHER INFORMATION CONTACT: Linh Le, Federal Aviation Administration, Transport Airplane Directorate (ANM-117), Northwest Mountain Region Headquarters, 1601 Lind Ave., SW., Renton, WA 98055-4056; telephone: (425) 227-1105; fax: 425-227-1320; e-mail: linh.le@faa.gov.

SUPPLEMENTARY INFORMATION:

Background

The FAA established the Aviation Rulemaking Advisory Committee to provide advice and recommendations to the FAA Administrator on the FAA's rulemaking activities for aviation-related issues. This includes obtaining advice and recommendations on the FAA's commitments to harmonize Title 14 of the Code of Federal Regulations (14 CFR) with its partners in Europe and Canada. Previous ARAC harmonization working groups (Flight Controls, Powerplant Installations, and Systems Design and Analysis) produced varying recommendations regarding the safety of critical airplane systems. Although the subject of specific risk analysis was addressed in those working groups, the recommendations were not consistent. Regulations developed from within the FAA also provide approaches different from those recommended by ARAC. The term “specific risk” refers to the risk to which an airplane is exposed under certain conditions (for example, after a latent failure), as distinguished from average risk.

If these different approaches are applied on a typical certification project, they could result in nonstandardized system safety assessments across various critical systems. This could cause conflicting interpretations for conducting system safety assessments in future airplane certification programs. After reviewing the existing regulations and the recommendations from the various harmonization-working groups, the FAA Transport Airplane Directorate, along with the European, Canadian, and Brazilian civil aviation authorities, identified a need to clarify and standardize safety assessment criteria. The FAA decided to use a new ARAC tasking to integrate the safety assessment criteria from various system disciplines. In July 2005, an industry group comprised of the Aerospace Industries Association (AIA), General Aviation Manufacturers Association (GAMA), and several airplane and engine manufacturers, proposed a new tasking. The FAA agrees with the industry group proposal, and has based this tasking on that proposal. ARAC will address the task under the Transport Airplane and Engine (TAE) Issues Group.

The Task

This tasking will direct ARAC to provide information about specific risk assessment and make recommendations for revising requirements or guidance material as appropriate. The TAE Issues Group will establish a new “Airplane-level Safety Analysis Working Group” (ASAWG) to perform the following tasks:

Task 1

The ASAWG will establish a definition for specific risk. It will provide relevant examples of its application in today's airplane certification, FAA Flight Operations Evaluation Board (FOEB), and Maintenance Review Board (MRB) activities. These examples will aid in the correct and concise understanding of specific risk.

Task 2

The ASAWG will review the background and intent of relevant existing requirements, existing guidance material, and ARAC recommendations and explain how specific risk is addressed. In Task 2, the ASAWG will document all current and proposed approaches to specific risk but will not establish how specific risk should be assessed. The outcome of this task will be a report describing how specific risk is currently assessed and managed, by currently available regulatory guidance and by actual practice in recent certification programs. The report will also address how any regulations and associated guidance material proposed by ARAC would manage specific risk. For the relevant ARAC proposals, the report will include the intended improvements and safety benefits of the recommended changes. The approaches and rationale used in airplane-level safety analysis for the following aspects will be reviewed and documented in the report:

Latent Failures

The Task 2 report will document acceptance criteria for the “significant latent failures” highlighted in paragraph 9.c.6 of the proposed ARAC Advisory Circular (AC) 25.1309—“Draft ARSENAL version,” dated 6/10/2002. The report will document the following aspects:

1. Criteria used for selecting failure conditions worthy of consideration (for example, significant latent failure conditions that are not extremely remote as cited in 14 CFR 25.981.)

2. Acceptability of the next most critical failure on safe operation. As part of this consideration, the report will document the approach used to establish whether a significant latent failure should be allowed to leave the airplane one failure away from a catastrophic condition. If it is allowable, the report will identify the acceptance criteria. Examples of acceptance criteria may be critical component integrity criteria and instructions for continued airworthiness that will include a standard procedure for identification and control of the maintenance tasks required to periodically check the status of the latent failure.

3. Failure probability assumptions and methods of substantiation

4. Criteria for determining allowable exposure times

5. Criteria for limiting the exposure times

Master Minimum Equipment List (MMEL)

The report will document the approaches to determine:

1. Acceptability of next most critical failure on safe operation

2. Crew limitations and procedures

3. Reliability of critical components

4. Allowable exposure time

Airplane Configuration, Flight Conditions and Design Variations

Flight phase.

Maximum flight time vs. average flight time.

Average diversion time vs. maximum allowed diversion time.

Task 3

The ASAWG will review the results of Tasks 1 & 2 and determine the appropriateness and adequacy of existing and proposed airworthiness standards for airplane-level safety analysis. This task will demonstrate if a more consistent approach across systems is necessary. The ASAWG will report its findings from Task 3 to the TAE Issues Group. Concurrence from the TAE Issues Group and the FAA is required before continuing to Task 4.

Task 4

The ASAWG will develop a report containing recommendations for rulemaking or guidance material and explain the rationale and safety benefits for each proposed change. The report will define a standardized approach for applying specific risk in the appropriate circumstances. The FAA will define the report format to ensure the report contains the necessary information for developing a Notice of Proposed Rulemaking (NPRM), and/or ACs. Task 4 is contingent on the results of the analyses done in Task 3.

If an NPRM or proposed AC is published for public comment as a result of the recommendations from this tasking, the FAA may ask ARAC to review all public comments received and provide a recommendation for disposition of comments for each issue.

Schedule

1. The ASAWG will submit a report with the results from its Task 1 activity to the TAE Issues Group no later than August 21, 2006.

2. The ASAWG will submit a report with the results of its Task 2 activity to the TAE Issues Group no later than February 21, 2007.

3. A report describing the results of Task 3 from ASAWG to TAE Issues Group is required no later than November 21, 2007.

4. The final report containing the ASAWG's recommendations to the FAA is required no later than May 21, 2008.

Completion of this task is required no later than May 21, 2008. Any deviations from this schedule must be requested by the ASAWG and approved by the TAE Issues Group.

ARAC Acceptance of Task

ARAC accepted the task and assigned it to the TAE Issues Group's newly formed ASAWG. The working group serves as staff to ARAC and assists in the analysis of assigned tasks. ARAC must review and approve the working group's recommendations. If ARAC accepts the working group's recommendations, it will forward them to the FAA. The FAA will submit the recommendations it receives to the agency's Rulemaking Management Council to address the availability of resources and prioritization.

Working Group Activity

The ASAWG must comply with the procedures adopted by ARAC. As part of the procedures, the working group must:

1. Recommend a work plan for completion of the task, including the rationale supporting such a plan for consideration at the next meeting of the TAE Issues Group held following publication of this notice.

2. Give a detailed conceptual presentation of the proposed recommendations before continuing with the work stated in item 3 below.

3. Draft the appropriate documents and required analyses and/or any other related materials or documents.

4. Provide a status report at each meeting of the ARAC TAE Issues Group.

Participation in the Working Group

The ASAWG will be comprised of technical experts having an interest in the assigned task. A working group member need not be a representative or a member of the TAE Issue Group. The ASAWG membership will have broad system safety experience. As needed, the ASAWG may organize, oversee, guide, and monitor the activities and progress of task groups comprised of subject matter experts (SMEs). A task group member needs not be a representative or a member of the full ASAWG. The ASAWG Chair will select the membership for both the ASAWG and its task groups, with concurrence of the TAE Issues Group Assistant Chair and TAE Issues Group Assistant Executive Director. The SMEs will address individual issues and will be invited to present their views and positions for consideration by the task groups or by the ASAWG. This allows for an optimum ASAWG group size with appropriate representation to achieve informed consensus and foster successful completion of the task. This also allows the participation of a large number of cross-functional SMEs, such as those from the Systems, Flight Controls, Powerplants, Structures, and Flight Operations harmonization working groups. The ASAWG members should have the appropriate subject matter knowledge, broad system safety experience and responsibility within their organization, and authority to represent their respective part of the aviation community. ASAWG members should:

1. Have proven proficiency in airplane system safety and failure analysis methodologies;

2. Have the appropriate knowledge to evaluate the likely impacts on safety, airplane system designs, manufacturing, operation, and maintenance following adoption of any relevant ARAC recommendation;

3. Have proficient knowledge of existing methods of compliance to one or more of the following relevant sections of 14 CFR: 25.671, 25.901, 25.933, 25.981, 25.1309, 25.1529, 33.28, 33.75, including JAR MMEL/MEL 0-10; and

4. Have a commitment to communicate with interested parties to establish a common understanding of all issues, and facilitate developing consensus explanations.

Task Group Members Should:

1. Have proven proficiency in airplane system safety and failure analysis methodologies;

2. Have hands-on experience in existing methods of compliance to one or more of the relevant sections of 14 CFR listed above; and

3. Have the appropriate backgrounds to explain to the ASAWG the rationales behind one or more of the relevant ARAC proposals (25.671, AC 25.901X, AC 25.933X, AC 25.1309—“Draft ARSENAL version,” 33.75) as they pertain to latent failures and the MMEL.

Invited experts should have the knowledge appropriate to the subjects of interest, as determined by the task groups or ASAWG.

In addition to industry representatives and the FAA, representatives from the European Aviation Safety Agency (EASA), Brazil's Centro Técnico Aeroespecial (CTA), and Transport Canada Civil Aviation (TCCA) are invited to participate. The working group and task group membership and size will be optimized to ensure credibility of representation and to facilitate efficiently accomplishing the tasking.

If you have expertise in the subject matter and wish to become a member of the working group, contact the person listed under the caption FOR FURTHER INFORMATION CONTACT. Describe your interest in the task and state the expertise you would bring to the working group. We must receive all requests by April 25, 2006. The assistant chair, the assistant executive director, and the working group chairs will review the requests and advise you whether your request is approved.

If you are chosen for membership on the working group, you must represent your aviation community segment and actively participate in the working group by attending all meetings and providing written comments when requested to do so. You must devote the resources necessary to support the working group in meeting any assigned deadlines. You must keep your management chain and those you may represent advised of working group activities and decisions to ensure the proposed technical solutions don't conflict with your sponsoring organization's position when the subject being negotiated is presented to ARAC for approval. Once the working group has begun deliberations, members will not be added or substituted without the approval of the assistant chair, the assistant executive director, and the working group chair.

The Secretary of Transportation determined that the formation and use of the ARAC is necessary and in the public interest in connection with the performance of duties imposed on the FAA by law.

Meetings of the ARAC are open to the public. Meetings of the ASAWG will not be open to the public, except to the extent individuals with an interest and expertise are selected to participate. The FAA will make no public announcement of working group meetings.

Issued in Washington, DC, on March 14, 2006.
Anthony F. Fazio,
Executive Director, Aviation Rulemaking Advisory Committee.

[FR Doc. E6-4024 Filed 3-20-06; 8:45 am]

BILLING CODE 4910-13-P